DEPARTMENT OF AGRICULTURE

Forest Service

Shasta Trinity National Forest, South Fork Management Unit, California Rattlesnake Fuel Reduction and Forest Health Project

AGENCY: Forest Service, USDA.

ACTION: Notice of intent to prepare an environmental impact statement.

SUMMARY: The Hayfork District of the Shasta Trinity National Forest is proposing to use vegetation treatments to reduce risks from fire, improve forest health, and provide forest products on approximately 6,028 acres within the Rattlesnake watershed on the South Fork Management Unit of the Shasta Trinity National Forest. The active management needed in the Rattlesnake Fuel Reduction and Forest Health Project (Rattlesnake project) area to reduce fuels and stocking levels through thinning requires the removal of trees and biomass, some of which have commercial value. An estimated 33 million board feet of merchantable sawtimber, and an estimated 35,092 bone dry tons of biomass are expected to be removed. Providing wood products to meet regional and national needs is consistent with Forest Plan goals, standards and guidelines. The initial economic analysis shows that the average diameter and quantity of the material treated under this project would generally be insufficient to support a viable timber sale in today's market. The Forest Service will analyze these vegetation treatments within the constraints of the Shasta Trinity National Forest Land and Resource Management Plan, 1995.

The proposed Rattlesnake project is in the vicinity of the Post Mountain and Forest Glen communities in southern Trinity County, California. The project area is within portions of the Wildland Urban Interface (WUI) boundaries for both of these communities and within the Hayfork Adaptive Management Area (AMA), and Management Area 19, Indian Valley/Rattlesnake, of the Shasta-Trinity Land and Resource Management Plan (USFS 1995, p. 4-64 & 4-65).

The project includes acreage in Township 1 North, Range 7 East, Sections 25 and 36, Township 1 North, Range 8 East, Sections 19-21, and 28-33, Township 1 South, Range 7 East, Sections 1 and 12, Township I South, Range 8 East, Sections 4-9, 16-21 and 28-29, Humboldt Meridian; Township 30 North, Range 12 West, Sections 35, 34, 32, Township 29 North, Range 12 West, Sections 1-19, 22, 23, Township 29 North, Range 11 West, Sections 29, and 31-32, Mount Diablo Meridian. The project is located in Trinity County, 10 air miles south of Hayfork, California and 3 air miles east of Post Mountain, California.

DATES: Comments must be received no later than 30 days after publication of this notice in the Federal Register. The draft environmental impact statement is expected in the spring of 2010 and the final environmental impact statement is expected the winter of 2010.

ADDRESSES: Please send written comments to Sandy Mack, TEAMS USFS Enterprise Unit, 1801 N. First, Hamilton, MT 59840-3114. Electronic comments may be submitted via e-mail to: comments-pacificsouthwest-shasta-trinity-yollabolla-hayfork@fs.fed.us with “Rattlesnake Project” as the subject.

Comments received in response to this solicitation, including names and addresses of those who comment, will be part of the public record for this proposed action. Comments submitted anonymously will be accepted and considered; however, anonymous comments will not provide the respondent with standing to participate in subsequent administrative review or judicial review.

FOR FURTHER INFORMATION CONTACT: Sandy Mack, Project Team Leader, TEAMS USFS Enterprise Unit, 1801 N. First, Hamilton, MT 59840. Phone (406) 375-2638. Or contact Donna Harmon, South Fork Management Unit District Ranger, P.O. Box 159, Hayfork, CA 96041, (530) 628-5227. Information about this project is posted on the forest Web site (http://www.fs.fed.us/r5/shastatrinity/projects).

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Rattlesnake project is reflected in the following three interrelated objectives:

• Reduce hazardous fuel conditions to reduce the potential for adverse impacts from wildfire to Forest System land, including within riparian and late successional reserves, and neighboring private land.

• Improve forest health and resiliency, including within riparian and late successional reserves.

• Provide timber products to help support the economic structure of local communities, and supply regional and national needs, when the materials removed to meet the first two objectives have commercial value.

The Rattlesnake project area overlaps the Trinity Pines/Post Mountain and the Forest Glen wildland urban interfaces, and is within five miles of Peanut to the north and Wildwood to the east. These dispersed residential communities are identified in the Trinity County Community Wildfire Protection Plan as having values “at risk” from wildfire. The town of Hayfork is approximately ten miles north of the project area. Both the National Fire Plan and the Ten-Year Comprehensive Strategy for Reducing Wildiand Fire Risks to Communities and the Environment place a priority on working collaboratively within communities in the WUI to reduce their risk from large-scale wildfire.

The project area receives high concentrations of dry lightning, as was experienced extensively in 2008. The Trinity County wildfires of 2008 burned 266,157 acres in three major complexes. It resulted in the death of 10 wildland firefighters, and required 15 mandatory evacuation orders for over 1,400 homes. The Rattlesnake project area straddles Highway 36 which serves as a main ingress, egress route for residents during a fire. The highway also provides added potential for human caused fires.

In addition to the neighboring residential communities at risk, there are forest resources in the project area that are also at risk from uncharacteristically severe fire. These resources include non-perennial stream corridors, late successional reserves, and high investment resources, such as tree plantations and the Bridgeville-Cottonwood 60 KV transmission line. Two roadless areas cross into the project area on the western edge (South Fork) and to the southern edge (Chinquapin) of the project. The Shasta-Trinity National Forest Late Successional Reserve Assessment identifies the potential for large, high intensity fire as a primary concern within the South Fork Late Successional Reserve (RC-330) which enters into the southern tip of the project area.

The Rattlesnake project is designed to strategically connect with fuel treatments implemented through the Post Mountain Stewardship project, and those planned in the Salt Timber Harvest and Fuel Hazard Reduction project. These projects are similar to the Rattlesnake project, but are not connected actions.

Over half of the Rattlesnake project area, 55 percent, currently has moderate to high potential for crown fires. This is significant because crown fires normally are highly destructive, difficult to control, and present the greatest safety hazard to firefighters and the public. The desired condition is for fuels in the project area to support a surface fire, rather than a crown fire.

Approximately 57 percent of the Rattlesnake project area would have control problems in the event of a fire because of the current fuel conditions, measured by projected flame lengths greater than eight feet. Control efforts by hand crews would likely be effective in only 14 percent of the project area and would be ineffective in the remaining 86 percent of the area. The desired condition is for flame lengths to be four feet or less in the project area so that direct attack with hand crews would be possible. This is particularly important given the project area's proximity to neighboring communities. The Shasta-Trinity National Forest Late Successional Reserve Assessment also identifies a desired condition of flame lengths less than four feet.

The project area needs fuel breaks to provide firefighters with a strategic place to defend against an oncoming fire.

Currently, stands in the Rattlesnake project area are overstocked. These dense stands contain excessive surface fuels, ladder fuels consisting of dense midstory and understory trees and shrubs, and continuous canopies of hardwood and conifer overstory trees. Competition for limited water, nutrients and sun in many highly stocked timber stands in the Rattlesnake project area has reduced the vigor, growth and resiliency to insects and disease of mixed conifer species. Thinning to accelerate growth is a priority, particularly in younger mid-successional stands in the South Fork Late Successional Reserve. The desired condition is for overstocked stands to be thinned to a relative stand density approximately 35% to 55%.

The purpose and need for the Rattlesnake project are consistent with Management Plan Goals #3, #10, #11, #34, #35, #36, #39, and #40 Shasta-Trinity Land and Resource Management Plan (USFS 1995, p. 4-5 and 4-6).

Proposed Action

The Rattlesnake project proposes vegetative management on a total of 6,028 acres in order to improve forest health, reduce risks from fire, and provide forest products. Approximately 396 acres of brush field would be burned and 5,540 acres would be thinned. Thinning would include:

• Thin from below: 3,610 acres,

• Hand thin to 10 inch diameter at breast height (dbh): 92 acres,

• Shaded fuel break: 1,707 acres of thin from below in a shaded fuel break,

• Shaded fuel break—thin to 8 inch dbh: 135 acres within perennial riparian reserves that intersect fuel breaks, but outside of the equipment exclusion zone,

• Plantation pre-commercial thin: 88 acres.

Sub-merchantable fuel would be reduced in all treatment units to desirable levels of between 5 and 10 tons of downed material per acre depending on the Forest Plan land allocation for the area.

Approximately 6.7 miles of new temporary roads would be needed to access units. Approximately 65.6 miles of system roads will require pre-haul maintenance, such as blading. Approximately 13.5 miles of system roads will require more earthwork and sight distance clearing before they can be safely used as haul roads. Approximately 2.4 miles of unclassified routes, would require brushing and re-shaping for use with this project, and then decommissioned after use. Approximately 21 miles of system road and 7 miles of unclassified routes would be decommissioned after use for this project. Treatments are expected to produce 33 million board feet (mmbf) of potentially merchantable saw timber and 35,092 tons of biomass.

Responsible Official

J. Sharon Heywood, Forest Supervisor, Shasta-Trinity National Forest.

Nature of Decision To Be Made

The Forest Supervisor will decide whether to implement the proposed action, take an alternative action that meets the purpose and need, or take no action.

Scoping Process—Public Comment

This notice of intent initiates the scoping process, which guides the development of the environmental impact statement. The project will be included in the Shasta-Trinity National Forest's quarterly schedule of proposed actions (SOPA). Information on the proposed action will also be posted on the forest Web site (http://www.fs.fed.us/r5/shastatrinity/projects) and advertised in the Record Searchlight—a local newspaper.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: October 21, 2009.
Donna F. Harmon,
South Fork Management Unit District Ranger, Shasta-Trinity National Forest.

[FR Doc. E9-26064 Filed 10-29-09; 8:45 am]

BILLING CODE 3410-11-M